DEPARTMENT OF DEFENSE

Office of the Secretary

32 CFR Part 199

[Docket ID: DoD-2008-HA-0123]

RIN 0720-AB29

TRICARE; TRICARE Delivery of Health Care in Alaska

AGENCY: Office of the Secretary, Department of Defense.

ACTION: Final rule.

SUMMARY: TRICARE has recognized the unique circumstances existing in Alaska which make the provision of medical care to TRICARE beneficiaries through the TRICARE program operated in the other 49 states unrealistic. Recognizing these unique conditions and circumstances, the Department of Defense has conducted a demonstration project in the state of Alaska since implementation of the TRICARE program under which certain exceptions have been made for administration of the program in Alaska. This rule incorporates the waiver of the requirement for financial underwriting by a TRICARE contractor as a permanent change to the administration of the TRICARE program in Alaska. This rule proposes no change to the TRICARE benefit or to those who are eligible for it. However, the rule does eliminate the financial underwriting of health care costs in the state of Alaska by a TRICARE contractor.

DATES: Effective Date: September 17, 2010.

FOR FURTHER INFORMATION CONTACT: LTC Stephen Oates, TRICARE Policy and Operations Directorate, TRICARE Management Activity, 5111 Leesburg Pike, Suite 810, Falls Church, VA 22041, telephone (703) 681-0039.

SUPPLEMENTARY INFORMATION:

I. Introduction and Background

In recognition of the unique geographical and environmental characteristics of the state of Alaska, the Department of Defense has conducted a demonstration project which tested the viability of implementing the TRICARE program differently in Alaska (see Federal Register, Vol. 69, No. 96/Tuesday, May 18, 2004/Notices). To date that demonstration has supported the impracticability and lack of cost effectiveness to impose on a TRICARE contractor the financial underwriting of the delivery of health care resulting from costs associated with the TRICARE program over which the contractor has no control. The demonstration is authorized until March 31, 2011. This rule will make permanent the waiver of the financial underwriting requirement by the TRICARE contractor in the delivery of health care in Alaska.

II. Public Comments

The proposed rule was published in the Federal Register (74 FR 62270-62271) on November 27, 2009, for a 60-day comment period. Two comments were submitted and are responded to below.

Comment: Alaska TRICARE managers need authorization, as do other states, to designate civilian primary care managers (PCMs) for care unavailable or too distant for the members who are in TRICARE Prime.

Response: We agree that allowing TRICARE managers the ability to designate civilian primary care managers (PCMs) would improve the access to care for eligible beneficiaries. Policies are currently being reviewed to assess the feasibility of incorporating such practices without adversely affecting the local community.

Comment: Certified Nurse Midwives and state-licensed direct-entry midwives are underutilized alternatives to physician-led care for pregnant women. Also, TRICARE's authorized providers should be expanded to include state-licensed midwives.

Response: We understand the limited choices available to beneficiaries in the state of Alaska; however, the ultimate decision remains with the beneficiary on provider selection. In order for a Certified Nurse Midwife to become a TRICARE-authorized provider, he/she must be licensed, when required, by a local licensing agency and certified by the American College of Nurse Midwives.

II. Regulatory Procedures

Executive Order 12866, “Regulatory Planning and Review”

Section 801 of title 5, United States Code (U.S.C.) and Executive Order (E.O.) 12866 require certain regulatory assessments and procedures for any major rule or significant regulatory action, defined as one that would result in an annual effect of $100 million or more on the national economy or which would have other substantial impacts. It has been certified that this rule is not an economically significant rule, however, it is a regulatory action which has been reviewed by the Office of Management and Budget as required under the provisions of E.O. 12866.

Section 202, Public Law, 104-4, “Unfunded Mandates Reform Act”

It has been certified that this rule does not contain a Federal mandate that may result in the expenditure by State, local and tribal governments, in aggregate, or by the private sector, of $100 million or more in any one year.

Public Law 96-354, “Regulatory Flexibility Act” (5 U.S.C. 601)

The Regulatory Flexibility Act (RFA) requires each Federal agency prepare and make available for public comment, a regulatory flexibility analysis when the agency issues a regulation which would have a significant impact on a substantial number of small entities. This rule is not an economically significant regulatory action and will not have a significant impact on a substantial number of small entities for purposes of the RFA. Thus, this proposed rule is not subject to any of these requirements.

Paperwork Reduction Act of 1995 (44 U.S.C. 3501-3511)

This rule will not impose additional information collection requirements on the public.

Executive Order 13132, “Federalism”

We have examined the impact of the rule under Executive Order 13132, and it does not have policies that have federalism implications that would have substantial direct effects on the States, on the relationship between the national government and the States, or on the distribution of power and responsibilities among the various levels of government. Therefore, consultation with State and local officials is not required.

List of Subjects in 32 CFR Part 199

Claims, Dental health, Health care, Health insurance, Individuals with disabilities, Military personnel.

Accordingly, 32 CFR part 199 is amended as follows:

PART 199—CIVILIAN HEALTH AND MEDICAL PROGRAM OF THE UNIFORMED SERVICES (CHAMPUS)

1. The authority citation for part 199 continues to read as follows:

Authority: 5 U.S.C. 301; 10 U.S.C. chapter 55.

2. Section 199.17 is amended by revising the second sentence of paragraph (a)(3), redesignating paragraph (v) as paragraph (w), and by adding a new paragraph (v) to read as follows:

§ 199.17 TRICARE program

* * * * *

(a) * * *

(3) * * * Its geographical applicability is to all 50 states (except as modified for the state of Alaska under paragraph (v) of this section) and the District of Columbia. * * *

* * * * *

(v) Administration of the TRICARE program in the state of Alaska. In view of the unique geographical and environmental characteristics impacting the delivery of health care in the state of Alaska, administration of the TRICARE program in the state of Alaska will not include financial underwriting of the delivery of health care by a TRICARE contractor. All other provisions of this section shall apply to administration of the TRICARE program in the state of Alaska as they apply to the other 49 states and the District of Columbia.

* * * * *

Dated: August 10, 2010.
Patricia L. Toppings,
OSD Federal Register Liaison Officer, Department of Defense.

[FR Doc. 2010-20391 Filed 8-17-10; 8:45 am]

BILLING CODE 5001-06-P